DEPARTMENT OF THE TREASURY

Agency Information Collection Activities; Submission for OMB Review; Comment Request; Multiple Internal Revenue Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 21, 2020 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Internal Revenue Service (IRS)

1. Title: Forest Activities Schedule.

OMB Control Number: 1545-0007.

Type of Review: Revision of a currently approved collection.

Description: Form T is filed by individuals and corporations to report income and deductions from the operation of a timber business. The IRS uses Form T to determine if the correct amount of income and deductions are reported.

Form: Form T (Timber).

Affected Public: Individuals and households.

Estimated Number of Respondents: 10.

Frequency of Response: Annually.

Estimated Total Number of Annual Responses: 10.

Estimated Time per Response: 36.2 hours.

Estimated Total Annual Burden Hours: 362.

2. Title: Form 706-A—United States Additional Estate Tax Return.

OMB Control Number: 1545-0016.

Type of Review: Extension without change of a currently approved collection.

Description: Form 706-A is used by individuals to compute and pay the additional estate taxes due under Code section 2032A(c). IRS uses the information to determine that the taxes have been properly computed. The form is also used for the basis election of section 1016(c)(1).

Form: 706-A.

Affected Public: Individuals and households.

Estimated Number of Respondents: 180.

Frequency of Response: Once, Annually.

Estimated Total Number of Annual Responses: 180.

Estimated Time per Response: 9 hours 20 minutes.

Estimated Total Annual Burden Hours: 1,678.

3. Title: Consent of Shareholder to Include Specific Amount in Gross Income.

OMB Control Number: 1545-0043.

Type of Review: Extension without change of a currently approved collection.

Description: Form 972 is used by a shareholder who agrees to report a consent dividend as taxable income on their own tax return. The shareholder completes the form and sends it to the corporation that will claim the consent dividend as a deduction.

Form: 972.

Affected Public: Individuals and households.

Estimated Number of Respondents: 100.

Frequency of Response: Once.

Estimated Total Number of Annual Responses: 100.

Estimated Time per Response: 3 hours 51 minutes.

Estimated Total Annual Burden Hours: 385.

4. Title: Dividend Equivalents From Sources Within the United States REG-120282-10 (TD 9734) & Forms 1042, 1042-S and 1042-T.

OMB Control Number: 1545-0096.

Type of Review: Extension without change of a currently approved collection.

Description: The previously approved regulations pertain to section 871(m) regarding dividend equivalent payments that are treated as U.S. source income. These regulations provide guidance regarding when payments made pursuant to certain financial instruments will be treated as U.S. source income and subject to U.S. withholding tax. The information provided is necessary to permit withholding agents to determine whether U.S. withholding tax is due with respect to a payment of a dividend equivalent and the amount of the tax. The information will also be used for audit and examination purposes.

Form 1042 is used by withholding agents to report tax withheld at source on certain income paid to nonresident alien individuals, foreign partnerships, and foreign corporations to the IRS. Form 1042-S is used by withholding agents to report income and tax withheld to payees. A copy of each 1042-S is filed magnetically or with Form 1042 for information reporting purposes. The IRS uses this information to verify that the correct amount of tax has been withheld and paid to the United States. Form 1042-T is used by withholding agents to transmit Forms 1042-S to the IRS.

Form: 1042, 1042-S and 1042-T.

Affected Public: Businesses or other for-profits.

Estimated Number of Respondents: 3,611,200.

Frequency of Response: On occasion.

Estimated Total Number of Annual Responses: 3,611,200.

Estimated Time per Response: 12 minutes for 1042-T, 35 minutes for 1042-S, 18.05 hours for 1042 and 8 hours for REG-120282-10.

Estimated Total Annual Burden Hours: 2,945,594.

5. Title: Form 1099-DIV—Dividends and Distributions.

OMB Control Number: 1545-0110.

Type of Review: Extension without change of a currently approved collection.

Description: The Form 1099-DIV is used by the Service to insure that dividends are properly reported as required by Code section 6042 and that liquidation distributions are correctly reported as required by Code section 6043, and to determine whether payees are correctly reporting their income.

Form: 1099-DIV.

Affected Public: Businesses or other for-profits.

Estimated Number of Respondents: 78,339,500.

Frequency of Response: Annually, On occasion.

Estimated Total Number of Annual Responses: 78,339,500.

Estimated Time per Response: 25 minutes.

Estimated Total Annual Burden Hours: 32,119,195.

6. Title: U.S. Departing Alien Income Tax Statement.

OMB Control Number: 1545-0138.

Type of Review: Extension without change of a currently approved collection.

Description: Form 2063 is used by a departing resident alien against whom a termination assessment has not been made, or a departing non- resident alien who has no taxable income from United States sources, to certify that they have satisfied all U.S. income tax obligations. The data is used by the IRS to certify that departing aliens have complied with U.S. income tax laws.

Form: 2063.

Affected Public: Individuals and households.

Estimated Number of Respondents: 20,540.

Frequency of Response: On occasion.

Estimated Total Number of Annual Responses: 20,540.

Estimated Time per Response: 50 minutes.

Estimated Total Annual Burden Hours: 17,049.

7. Title: Form 3520, Annual Return To Report Transactions With Foreign Trusts and Receipt of Certain Foreign Gifts; Form 3520-A, Annual Information Return of Foreign Trust With a U.S. Owner.

OMB Control Number: 1545-0159.

Type of Review: Revision of a currently approved collection.

Description: U.S. persons file Form 3520 to report certain transactions with foreign trusts, ownership of foreign trusts under the rules of Internal Revenue Code sections 671 through 679, and receipt of certain large gifts or bequests from certain foreign persons. Form 3520-A is the annual information return of a foreign trust with at least one U.S. owner. The form provides information about the foreign trust, its U.S. beneficiaries, and any U.S. person who is treated as an owner of any portion of the foreign trust under the grantor trust rules.

Form: 3520, 3520-A.

Affected Public: Individuals and households.

Estimated Number of Respondents: 2,500.

Frequency of Response: Annually.

Estimated Total Number of Annual Responses: 1,820.

Estimated Time per Response: 54.35 hours for 3520, 45.59 hours for 3520-A.

Estimated Total Annual Burden Hours: 94,537.

8. Title: Form 11-C—Occupational Tax and Registration Return for Wagering.

OMB Control Number: 1545-0236.

Type of Review: Extension without change of a currently approved collection.

Description: Form 11-C is used to register persons accepting wagers (IRC section 4412). IRS uses this form to register the respondent, collect the annual stamp tax (IRC section 4411), and to verify that the tax on wagers is reported on Form 730.

Form: 11-C.

Affected Public: Businesses or other for-profits.

Estimated Number of Respondents: 11,500.

Frequency of Response: Annually.

Estimated Total Number of Annual Responses: 11,500.

Estimated Time per Response: 7 hours 4 minutes.

Estimated Total Annual Burden Hours: 81,190.

9. Title: Creditability of Foreign Taxes.

OMB Control Number: 1545-0746.

Type of Review: Extension without change of a currently approved collection.

Description: The information needed is a statement by the taxpayer that it has elected to apply the safe harbor formula of section 1.901-2A(e) of the foreign tax credit regulations. This statement is necessary in order that the IRS may properly determine the taxpayer's tax liability.

Form: None.

Affected Public: Businesses or other for-profits.

Estimated Number of Respondents: 120.

Frequency of Response: Once, Annually.

Estimated Total Number of Annual Responses: 120.

Estimated Time per Response: 20 minutes.

Estimated Total Annual Burden Hours: 41.

10. Title: Limitation on Reduction in Income Tax Liability Incurred to the Virgin Islands (TD 6629).

OMB Control Number: 1545-0782.

Type of Review: Extension without change of a currently approved collection.

Description: The Tax Reform Act of 1986 repealed the mandatory reporting and recordkeeping requirements of section 934(d)(1954 Code). The prior exception to the general rule of section 934 (1954 Code) to prevent the Government of the U.S. Virgin Islands from granting tax rebates with regard to taxes attributable to income derived from sources within the U.S. was contingent upon the taxpayer's compliance with the reporting requirements of section 934(d).

Form: None.

Affected Public: Individuals and households.

Estimated Number of Respondents: 500.

Frequency of Response: On occasion.

Estimated Total Number of Annual Responses: 500.

Estimated Time per Response: 22 minutes.

Estimated Total Annual Burden Hours: 185.

Authority: 44 U.S.C. 3501 et seq.

Dated: December 17, 2019.
Spencer W. Clark,
Treasury PRA Clearance Officer.

[FR Doc. 2019-27546 Filed 12-19-19; 8:45 am]

BILLING CODE 4830-01-P